DEPARTMENT OF JUSTICE

Drug Enforcement Administration

Importer of Controlled Substances; Notice of Application Penick Corporation

This is notice that on March 1, 2012, Penick Corporation, 33 Industrial Park Road, Pennsville, New Jersey 08070, made application by renewal to the Drug Enforcement Administration (DEA) for registration as an importer of the following basic classes of controlled substances:

Drug | Schedule
Coca Leaves (9040) | II
Raw Opium (9600) | II
Poppy Straw (9650) | II
Concentrate of Poppy Straw (9670) | II

The company plans to import the listed controlled substances to manufacture bulk controlled substance intermediates for sale to its customers.

Comments and requests for hearings on applications to import narcotic raw material are not appropriate. 72 FR 3417(2007).

As noted in a previous notice published in the Federal Register on September 23, 1975, 40 FR 43745, all applicants for registration to import a basic class of any controlled substance in schedule I or II are, and will continue to be, required to demonstrate to the Deputy Assistant Administrator, Office of Diversion Control, Drug Enforcement Administration, that the requirements for such registration pursuant to 21 U.S.C. 958(a); 21 U.S.C. 823(a); and 21 CFR 1301.34(b), (c), (d), (e), and (f) are satisfied.

Dated: April 17, 2012.
Joseph T. Rannazzisi,
Deputy Assistant Administrator, Office of Diversion Control, Drug Enforcement Administration.

[FR Doc. 2012-10039 Filed 4-25-12; 8:45 am]

BILLING CODE 4410-09-P